DEPARTMENT OF HOMELAND SECURITY

Federal Emergency Management Agency

[Docket ID FEMA-2024-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Nicholas A. Shufro,
Assistant Administrator (Acting) for Risk Management, Federal Emergency Management Agency, Department of Homeland Security.

State and county | Location and case No. | Chief executive officer of community | Community map repository | Date of modification | Community No.
Colorado: Douglas (FEMA Docket No.: B-2424) | Town of Castle Rock (23-08-0509P). | The Honorable Jason Gray, Mayor, Town of Castle Rock, 100 North Wilcox Street, Castle Rock, CO 80104. | Water Department, 175 Kellogg Court, Castle Rock, CO 80109. | Jun. 21, 2024 | 080050
Florida:
Lee(FEMA Docket No.: B-2431) | Unincorporated areas of Lee County (24-04-0733P). | David Harner, Lee County Manager, 2115 2nd Street, Fort Myers, FL 33901. | Lee County Building Department, 1500 Monroe Street, Fort Myers, FL 33901. | Jun. 24, 2024 | 125124
Orange (FEMA Docket No.: B-2424) | City of Orlando (23-04-5329P). | The Honorable Buddy Dyer, Mayor, City of Orlando, 400 South Orange Avenue, Orlando, FL 32801. | City Hall, 400 South Orange Avenue, Orlando, FL 32801. | Jun. 24, 2024 | 120186
Orange (FEMA Docket No.: B-2424) | Unincorporated areas of Orange County (23-04-5329P). | The Honorable Jerry L. Demings, Mayor, Orange County, 201 South Rosalind Avenue, 5th Floor, Orlando, FL 32801. | Orange County Public Works Department, Stormwater Management Division, 4200 South John Young Parkway, Orlando, FL 32839. | Jun. 24, 2024 | 120179
Osceola (FEMA Docket No.: B-2424) | Unincorporated areas of Osceola County (23-04-0522P). | Donald Fisher, Osceola County Manager, 1 Courthouse Square, Suite 4700, Kissimmee, FL 34741. | Osceola County Public Works Department, 1 Courthouse Square, Suite 3100, Kissimmee, FL 34741. | Jun. 7, 2024 | 120189
Osceola (FEMA Docket No.: B-2418) | Unincorporated areas of Osceola County (23-04-5105P). | Donald Fisher, Osceola County Manager, 1 Courthouse Square, Suite 4700, Kissimmee, FL 34741. | Osceola County Public Works Department, 1 Courthouse Square, Suite 3100, Kissimmee, FL 34741. | Jun. 14, 2024 | 120189
Palm Beach (FEMA Docket No.: B-2418) | Town of Palm Beach (23-04-4383P). | Kirk Blouin, Manager, Town of Palm Beach, 360 South County Road, Palm Beach, FL 33480. | Building Department, 360 South County Road, Palm Beach, FL 33480. | Jun. 17, 2024 | 120220
Palm Beach (FEMA Docket No.: B-2418) | Unincorporated areas of Palm Beach County (23-04-3795P). | Verdenia C. Baker, Palm Beach County Administrator, 301 North Olive Avenue, Suite 1101, West Palm Beach, FL 33401. | Palm Beach County Building Division, 2300 North Jog Road, West Palm Beach, FL 33411. | Jun. 10, 2024 | 120192
Palm Beach (FEMA Docket No.: B-2418) | Unincorporated areas of Palm Beach County (23-04-4383P). | Verdenia C. Baker, Palm Beach County Administrator, 301 North Olive Avenue, Suite 1101, West Palm Beach, FL 33401. | Palm Beach County Building Division, 2300 North Jog Road, West Palm Beach, FL 33411. | Jun. 17, 2024 | 120192
Polk (FEMA Docket No.: B-2418) | Unincorporated areas of Polk County (23-04-5421P). | Bill Beasley, Polk County Manager, 330 West Church Street, Bartow, FL 33831. | Polk County Land Development Division, 330 West Church Street, Bartow, FL 33831. | Jun. 13, 2024 | 120261
Maine:
Cumberland (FEMA Docket No.: B-2424) | City of Portland (24-01-0140P). | The Honorable Mark Dion, Mayor, City of Portland, 389 Congress Street, Portland, ME 04101. | Permitting and Inspections Department, 389 Congress Street, Portland, ME 04101. | Jun. 21, 2024 | 230051
Cumberland (FEMA Docket No.: B-2424) | Town of Harpswell (24-01-0141P). | Kevin E. Johnson, Chair, Town of Harpswell Board of Selectmen, P.O. Box 39, Harpswell, ME 04079. | Code Department, 263 Mountain Road, Harpswell, ME 04079. | Jun. 21, 2024 | 230169
Cumberland | Town of Harpswell (24-01-0301X) | Kevin E. Johnson, Chair, Town of Harpswell Board of Selectmen, P.O. Box 39, Harpswell, ME 04079. | Code Office, 263 Mountain Road, Harpswell, ME 04079. | Jun. 24, 2024 | 230169
Maryland:
Anne Arundel (FEMA Docket No.: B-2424) | City of Laurel (23-03-0580P). | The Honorable Keith R. Sydnor, Mayor, City of Laurel, 8103 Sandy Spring Road, Laurel, MD 20707. | Anne Arundel County Heritage Office Complex, 2664 Riva Road, Annapolis, MD 21401. | Jun. 24, 2024 | 240053
Anne Arundel (FEMA Docket No.: B-2424) | Unincorporated areas of Anne Arundel County (23-03-0580P). | Steuart Pittman, Anne Arundel County Executive, 44 Calvert Street, Annapolis, MD 21401. | Anne Arundel County Heritage Office Complex, 2664 Riva Road, Annapolis, MD 21401. | Jun. 24, 2024 | 240008
Montana: Granite (FEMA Docket No.: B-2424) | Unincorporated areas of Granite County (23-08-0605P). | Blanche McLure, Chair, Granite County Board of Commissioners, P.O. Box 925, Philipsburg, MT 59858. | Granite County Planning Department, 220 North Sansome Street, Philipsburg, MT 59858. | Jun.7, 2024 | 300141
North Carolina:
Durham (FEMA Docket No.: B-2424) | Unincorporated areas of Durham County (23-04-1744P). | Nida Allam, Chair, Durham County Board of Commissioners, 200 East Main Street Durham, NC 27701. | Durham County Government Office, 101 City Hall Plaza, Durham, NC 27701. | Jun. 4, 2024 | 370085
Forsyth (FEMA Docket No.: B-2424) | City of Winston-Salem (22-04-5169P). | The Honorable Allen Joines, Mayor, City of Winston-Salem, 100 East 1st Street, Winston-Salem, NC 27101. | Planning and Development Department, 100 East 1st Street, Winston-Salem, NC 27101. | Apr. 22, 2024 | 375360
Robeson (FEMA Docket No.: B-2431) | Unincorporated areas of Robeson County (23-04-4166P). | John Cummings, Chair, Robeson County Board of Commissioners, 550 North Chestnut Street, Lumberton, NC 28358. | Robeson County Planning and Zoning Department, 701 North Elm Street, Lumberton, NC 28358. | Jun. 10, 2024 | 370202
Stanly (FEMA Docket No.: B-2424) | City of Albemarle (23-04-5871P). | The Honorable G. R. Michael, Mayor, City of Albemarle, 144 North 2nd Street Albemarle, NC 28001. | Engineering Department, 144 North 2nd Street 2nd Floor, Albemarle, NC 28001. | May 29, 2024. | 370223
Wake (FEMA Docket No.: B-2424) | Town of Wake Forest (23-04-3741P). | The Honorable Vivian A. Jones, Mayor, Town of Wake Forest, 301 South Brooks Street, Wake Forest, NC 27587. | Planning Department, 301 South Brooks Street, Wake Forest, NC 27587. | Jun. 5, 2024 | 370244
Wake (FEMA Docket No.: B-2424) | Unincorporated areas of Wake County (23-04-3741P). | Shinica Thomas, Chair, Wake County Board of Commissioners, P.O. Box 550, Raleigh, NC 27602. | Wake County Planning Department, 337 South Salisbury Street, Raleigh, NC 27601. | Jun. 5, 2024 | 370368
Watauga (FEMA Docket No.: B-2424) | Unincorporated areas of Watauga County (22-04-4623P). | Larry Turnbow, Chair, Watauga County Board of Commissioners, 814 West King Street, Suite 205, Boone, NC 28607. | Watauga County Planning and Inspections Department, 126 Poplar Grove Connector, Suite 201 Boone, NC 28607. | May 23, 2024 | 370251
Watauga (FEMA Docket No.: B-2437) | Unincorporated areas of Watauga County (23-04-3107P). | Larry Turnbow, Chair, Watauga County Board of Commissioners, 814 West King Street, Suite 205, Boone, NC 28607. | Watauga County Planning and Inspections Department, 126 Poplar Grove Connector, Suite 201, Boone, NC 28607. | May 16, 2024 | 370251
Pennsylvania: Monroe (FEMA Docket No.: B-2418) | Township of Pocono (24-03-0116P). | Richard Wielebinski, President, Township of Pocono Board of Commissioners, 112 Township Drive, Tannersville, PA 18372. | Township Hall, 112 Township Drive, Tannersville, PA 18372. | Jun. 10, 2024 | 421892
Texas:
Denton (FEMA Docket No.: B-2418) | City of Fort Worth (23-06-1671P). | The Honorable Mattie Parker, Mayor, City of Fort Worth, 200 Texas Street, Fort Worth, TX 76102. | Department of Transportation and Public Works, Engineering Vault and Map Repository, 200 Texas Street, Fort Worth, TX 76102. | Jun. 10, 2024 | 480596
Denton (FEMA Docket No.: B-2418) | Unincorporated areas of Denton County (23-06-1671P). | The Honorable Andy Eads, Denton County Judge, 1 Courthouse Drive, Suite 3100, Denton, TX 76208. | Denton County Development Services Department, 3900 Morse Street, Denton, TX 76208. | Jun. 10, 2024 | 480774
Tarrant (FEMA Docket No.: B-2418) | City of Arlington (23-06-1085P). | The Honorable Jim Ross, Mayor, City of Arlington, P.O. Box 90231, Arlington, TX 76004. | Public Works Department, 101 West Abram Street, Arlington, TX 76010. | Jun. 17, 2024 | 485454
Tarrant (FEMA Docket No.: B-2418) | City of Fort Worth (23-06-1412P). | The Honorable Mattie Parker, Mayor, City of Fort Worth, 200 Texas Street, Fort Worth, TX 76102. | Department of Transportation and Public Works, Engineering Vault and Map Repository, 200 Texas Street, Fort Worth, TX 76102. | Jun. 17, 2024 | 480596
Webb (FEMA Docket No.: B-2424) | City of Laredo (23-06-2007P). | The Honorable Victor D. Treviño, Mayor, City of Laredo, 1110 Houston Street, Laredo, TX 78040. | Building Development Services Department, 1413 Houston Street, Laredo, TX 78040. | Jun. 20, 2024 | 480651
Williamson (FEMA Docket No.: B-2424) | City of Cedar Park (23-06-1459P). | The Honorable Jim Penniman-Morin, Mayor, City of Cedar Park, 450 Cypress Creek Road, Building 4, Cedar Park, TX 78613. | City Hall, 450 Cypress Creek Road, Building 1, Cedar Park, TX 78613. | Jun. 6, 2024 | 481282
Williamson, (FEMA Docket No.: B-2424) | Unincorporated areas of Williamson County (23-06-1459P). | The Honorable Bill Gravell, Jr., Williamson County Judge, 710 South Main Street, Suite 101, Georgetown, TX 78626. | Williamson County Engineering Department, 3151 Southeast Inner Loop, Georgetown, TX 78626. | Jun. 6, 2024 | 481079
Virginia:
Buchanan (FEMA Docket No.: B-2424) | Unincorporated areas of Buchanan County (23-03-1041P). | Robert Craig Horn, Buchanan County Administrator, P.O. Box 950, Grundy, VA 24614. | Buchanan County Government Center, 4447 Slate Creek Road, Grundy, VA 24614. | Jun. 21, 2024 | 510024
Loudoun (FEMA Docket No.: B-2418) | Unincorporated areas of Loudoun County (23-03-0567P). | Tim Hemstreet, Loudoun County Administrator, 1 Harrison Street Southeast, 5th Floor, Leesburg, VA 20175. | Loudoun County Government Center, 1 Harrison Street Southeast, 3rd Floor, MSC #60, Leesburg, VA 20175. | Jun. 17, 2024 | 510090
Wyoming:
Teton (FEMA Docket No.: B-2418) | Town of Jackson (23-08-0655P). | The Honorable Hailey Morton Levinson, Mayor, Town of Jackson, P.O. Box 1687, Jackson, WY 83001. | Public Works Department, 450 West Snow King Avenue, Jackson, WY 83001. | Jun. 6, 2024 | 560052
Teton (FEMA Docket No.: B-2418) | Unincorporated areas of Teton County (23-08-0655P). | The Honorable Luther Propst, Chair, Teton County Board of Commissioners, P.O. Box 3594, Jackson, WY 83001. | Teton County Public Works Department, 320 South King Street, Jackson, WY 83001. | Jun. 6, 2024 | 560094

[FR Doc. 2024-14749 Filed 7-3-24; 8:45 am]

BILLING CODE 9110-12-P